MEDICARE PAYMENT ADVISORY COMMISSION

Commission Meeting

AGENCY: Medicare Payment Advisory Commission.

ACTION: Notice of meeting.

SUMMARY: The Commission will hold its next public meeting on Thursday, March 15, 2001, and Friday, March 16, 2001, at the Ronald Reagan Building, International Trade Center, 1300 Pennsylvania Avenue, NW, Washington, DC. The meeting is tentatively scheduled to begin at 10 a.m. on March 15, and at 9 a.m. on March 16.

Topics for discussion include: Market conditions and rates of health service use in rural areas; access to care in rural areas; payment provisions for inpatient hospital care in rural areas; rural quality of care; payment for outpatient hospital care in rural areas; payments for nursing and allied health programs; Medicare+Choice issues in rural areas; payment update for physician services; the need for a payment adjustment for skilled nursing facilities in Alaska and Hawaii; payment issues for home health in rural areas; and psychiatric facilities in rural areas.

Agendas will be mailed on March 7, 2001. The final agenda will be available on the Commission's website (www.MedPAC.gov).

ADDRESSES: MedPAC's address is: 1730 K Street, NW, Suite 800, Washington, DC 20006. The telephone number is (202) 653-7220.

FOR FURTHER INFORMATION CONTACT: Diane Ellison, Office Manager, (202) 653-7220.

Murray N. Ross,
Executive Director.

[FR Doc. 01-5499 Filed 3-6-01; 8:45 am]

BILLING CODE 6820-BW-M